DEPARTMENT OF ENERGY

Federal Energy Regulatory Commission

[Project No. 13849-000]

Natural Currents Energy Services, LLC; Notice of Preliminary Permit Application Accepted for Filing and Soliciting Comments, Motions To Intervene, and Competing Applications

November 10, 2010.

On September 30, 2010, Natural Currents Energy Services, LLC filed an application for a preliminary permit, pursuant to section 4(f) of the Federal Power Act, proposing to study the feasibility of the Salem Tidal Energy Project, which would be located on the Salem River, in Salem County, New Jersey. The sole purpose of a preliminary permit, if issued, is to grant the permit holder priority to file a license application during the permit term. A preliminary permit does not authorize the permit holder to perform any land-disturbing activities or otherwise enter upon lands or waters owned by others without the owners' express permission.

Natural Currents proposes to develop this project in the stretch of the Salem River between the confluence of Fenwick Creek just north of the Penn's Neck Bridge (South Broadway, City of Salem, NJ) and the Mid Atlantic Port Terminal to the south. The project proposes between 10 and 30 NC Sea Dragon or Red Hawk tidal turbines at a rated capacity of 100 kilowatts (kW). The exact number would be dependent on further resource assessment, which would precisely characterize the water flow speeds. Initial estimated production would be a minimum of 3,504,000 kW hours per year with the installation of 10 units.

Applicant Contact: Mr. Roger Bason, Natural Currents Energy Services, LLC, 24 Roxanne Boulevard, Highland, NY 12561; phone (845) 691-4009.

FERC Contact: John M. Mudre, (202) 502-8902.

Deadline for filing comments, motions to intervene, competing applications (without notices of intent), or notices of intent to file competing applications: 60 Days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/efiling.asp). Commenters can submit brief comments up to 6,000 characters without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13849) in the docket number field to access the document. For assistance, contact FERC Online Support.

Kimberly D. Bose,
Secretary.

[FR Doc. 2010-29064 Filed 11-17-10; 8:45 am]

BILLING CODE 6717-01-P